DEPARTMENT OF HOUSING AND URBAN DEVELOPMENT

[Docket No. FR-5911-N-02]

60-Day Notice of Proposed Information Collection: Affirmative Fair Housing Marketing Plan

AGENCY: Office of the Assistant Secretary for Fair Housing and Equal Opportunity, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 3, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Affirmative Fair Housing Marketing Plan.

OMB Approval Number: 2529-0013.

Type of Request: Revision of a currently approved collection.

Form Number: HUD-935.2A, 935.2B, 935.2C.

Description of the need for the information and proposed use: The Department of Housing and Urban Development (HUD) is requesting that the Office of Management and Budget (OMB) approve the extension of forms: HUD-935.2A Affirmative Fair Housing Marketing Plan—Multifamily Housing, HUD-935.2B Affirmative Fair Housing Marketing Plan—Single Family Housing, and HUD-935.2C Affirmative Fair Housing Marketing Plan—Condominiums or Cooperatives. These forms assist HUD in fulfilling its duty under the Fair Housing Act (the Act) to administer its programs and activities relating to housing and urban development in a manner that affirmatively furthers fair housing, by promoting a condition in which individuals of similar income levels in the same housing market area have available to them a like range of housing choices, regardless of race, color, national origin, religion, sex, disability, or familial status. This collection also promotes compliance with Executive Order 11063, which requires Federal agencies to take all necessary and appropriate action to prevent discrimination in federally insured and subsidized housing. Under the AFHM Regulations (24 CFR part 200, subpart M), all applicants for participation in Federal Housing Administration (FHA) subsidized and unsubsidized housing programs that involve the development or rehabilitation of multifamily projects or manufactured home parks of five or more lots, units, or spaces must submit an AFHM Plan on a prescribed form. In addition, all applicants for participation in FHA subsidized and unsubsidized housing programs that involve the development or rehabilitation of single family housing or condominium or cooperative units that intend to sell five or more properties in the next year, or sold five or more properties in the past year, and where a lender is submitting initial applications for HUD mortgage insurance, must submit one of several agreements or statements, among which is an AFHM Plan on a prescribed form. If this information was not collected, it would prevent HUD from ensuring compliance with affirmative fair housing marketing requirements.

Respondents: Applicants for FHA subsidized and unsubsidized housing programs.

Estimated Number of Respondents: 8,080 (HUD 935.2A: On an annual basis, there are approximately 300 respondents that submit new plans, 4,030 respondents that review their existing plans and submit updated plans, and 3,720 respondents that review their existing plans, but are not required to submit updated plans. HUD 935.2.B & C: On an annual basis, there are approximately 30 respondents that submit new plans.)

Estimated Number of Responses: 8,080.

Frequency of Response: 1 per annum.

Average Hours per Response: The average hours per response is 3.16 hours. (For the HUD-935.2A, the hours per response are: 6 hours (new plans), 4 hours (review and update plans), and 2 hours (review of existing plans only). For the 935.2B & C, the hours per response is 6 hours.

Total Estimated Burdens: 25,540 hours.

Information collection | Number of respondents | Frequency of response | Responses per annum | Burden hour per response | Annual burden hours | Hourly cost per response | Annual cost
HUD-935.2A (MFH) | 8,050 | 1 | 8,050 | (New MFH) 6 × 300 (Reviews MFH) 2 × 3,720 (Reviews & Updates MFH) 4 × 4,030 | (New MFH) 1800 (Reviews MFH) 7,440 (Reviews & Updates) 16,120 | Respondents: $35/hr (professional work) $16/hr (clerical work) $1.25 per report mailing | Respondents: (New MFH) = ($35 × 4 × 300) + ($16 × 2 × 300) = $51,600. (Reviews MFH) = ($35 × 2 × 3,720) = $260,400. (Reviews & Updates MFH) = ($35 × 2 × 4030). +. ($16 × 2 × $4030) = $411,060.
|  |  |  |  |  |  | MFH mailing costs = $1.25 × 4,330 = $5,412.50.
|  |  |  |  |  | Government: $38.56/hr ¹ (professional work) $17.55/hr ² (clerical work) | Government: (New MFH) = ($38.56 × 3 × 300) + ($17.55 × 0.5 × 300) = $37,336.50. (Review & Updates MFH) = ($38.56 × 3 × 4,030) + ($17.55 × 0.5 × $4,030) = $501,553.65.
HUD-935.2B (SFH) & C (Condos and Co-Ops) | 30 | 1 | 30 | 6 | 180 | Respondents: $35/hr (professional work) $16/hr (clerical work) $1.25 per report mailing | Respondents: (New SFH) = ($35 × 4 × 30) + ($16 × 2 × 30) = $5,160. SFH mailing costs = $1.25 × 30 = $37.50.
|  |  |  |  |  | Government: $38.56/hr (professional work) $17.55/hr (clerical work) | Government: (New SFH) = ($38.56 × 3 × 30) + ($17.55 × 0.5 × 30) = $3,733.65.
Total | 8,080 | 1 each | 8,080 | Avg. of 3.16 | 25,540 | Avg. of $28.73 | Respondents: $733,670.
|  |  |  |  |  |  | Government: $542,623.80.
¹ $35/hr approximate rate for GS 12 Step 5 ($38.56/hr) based on the salary information available on OPM.gov.
² $16/hr approximate rate for GS 5 step 5 ($17.55/hr) based on the salary information available on OPM.gov.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 29, 2016.
Bryan Greene,
General Deputy Assistant Secretary for Fair Housing and Equal Opportunity.

[FR Doc. 2016-29123 Filed 12-2-16; 8:45 am]

BILLING CODE 4210-67-P